DEPARTMENT OF HEALTH AND HUMAN SERVICES

National Institutes of Health, Office of the Director, Office of Biotechnology Activities

Notice of a Safety Symposium Sponsored by the NIH Recombinant DNA Advisory Committee (RAC) and the Intragovernmental Select Agent and Toxin Technical Advisory Committee (ISATTAC)

There will be a safety symposium entitled “Public Health and Biosafety Practices for Research with 1918 H1N1 Influenza Virus” on December 2, 2008 co-sponsored by the RAC, a federal advisory committee to the NIH Director and the ISATTAC, an intragovernmental committee that advises on Select Agent issues including restricted experiments. The meeting will be open to the public, with attendance limited to space available. Individuals who plan to attend and need special assistance, such as sign language interpretation or other reasonable accommodations, should notify the contact person listed below in advance of the meeting. For further information concerning this meeting contact Ms. Lisa A. Parker, Advisory Committee Coordinator, Office of Biotechnology Activities, Office of the Director, National Institutes of Health, 6705 Rockledge Drive, Room 750, Bethesda, MD 20892-7985, 301-496-9838, parkerla@od.nih.gov.

Name of Committee: Recombinant DNA Advisory Committee.

Date: December 2, 2008.

Time: 8 a.m. to 6 p.m.

Agenda: The safety symposium will bring together experts to provide their perspectives on the safety, efficacy, and advisability of pre-exposure antiviral prophylaxis for researchers working with the reconstructed pandemic 1918 H1N1 Influenza Virus and how the presence or absence of pre-exposure prophylaxis should be factored into a determination of the appropriate biocontainment level for work with the 1918 H1N1 Influenza Virus. Please check the meeting agenda at http:www4.od.nih.gov/oba/RAC/meeting.htm for more information.

Place: Fishers Lane Conference Center, 5635 Fishers Lane, Terrace Level, Rockville, MD 20892.

Contact Person: Lisa A. Parker, Advisory Committee Coordinator, Office of Science Policy, Office of Biotechnology Activities, National Institutes of Health, 6705 Rockledge Drive, Suite 750-A1, Bethesda, MD 20892, 301-496-9838, parkerla@mail.nih.gov.

Any interested person may file written comments with the panel by forwarding the statement to the contact person listed on this notice. The statement should include the name, address, telephone number and when applicable, the business or professional affiliation of the interested person. Background information may be obtained by contacting NIH OBA by e-mail oba@od.nih.gov.

Dated: November 5, 2008.
Amy P. Patterson,
Director, Office of Biotechnology Activities.

[FR Doc. E8-26886 Filed 11-12-08; 8:45 am]

BILLING CODE 4140-01-P